DEPARTMENT OF COMMERCE

National Oceanic and Atmospheric Administration

[I.D. 052404B]

Proposed Information Collection; Comment Request; Pacific Tuna Fisheries Logbook

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before July 26, 2004.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Svein Fougner, Sustainable Fisheries Division, Southwest Region, NMFS, 501 W. Ocean Blvd., Suite 4200, Long Beach, CA 90802, telephone 562-980-4040, (or via Internet at: svein.fougner@noaa.gov).

SUPPLEMENTARY INFORMATION:

I. Abstract

United States participation in the Inter-American Tropical Tuna Commission (IATTC) results in certain recordkeeping requirements for U.S. fishermen who fish in the IATTC's area of management responsibility. These fishermen must maintain a log of all operations conducted from the fishing vessel, including the date, noon position, and the tonnage of fish aboard the vessel, by species. The logbook form provided by the IATTC is universally used by U.S. fishermen to meet this recordkeeping requirement, as permitted by the regulations. The information in the logbooks includes areas and times of operation and catch and effort by area. Logbook data are used in stock assessments and other research concerning the fishery. If the data were not collected or if erroneous data were provided, the IATTC assessments would likely be incorrect and there would be an increased risk of overfishing or inadequate management of the fishery.

II. Method of Collection

Vessel operators maintain bridge logs on a daily basis, and the forms are either mailed to the IATTC or to NMFS at the completion of each trip. The data are processed and maintained as confidential by the IATTC.

III. Data

OMB Number: 0648-0148.

Form Number: None.

Type of Review: Regular submission.

Affected Public: Individuals or households, business or other for-profit organizations.

Estimated Number of Respondents: 20.

Estimated Time Per Response: 5 minutes.

Estimated Total Annual Burden Hours: 129.

Estimated Total Annual Cost to Public: $0.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 21, 2004.
Gwellnar Banks,
Management Analyst, Office of the Chief Information Officer.

[FR Doc. 04-12057 Filed 5-26-04; 8:45 am]

BILLING CODE 3510-22-S